DEPARTMENT OF ENERGY

Federal Energy Regulatory Commission

[Project No. 2230-034]

City and Borough of Sitka, AK; Notice Soliciting Comments and Final Recommendations, Terms and Conditions, and Prescriptions

December 8, 2006.

Take notice that the following hydroelectric application has been filed with the Commission and is available for public inspection.

a. Type of Application: New Major License.

b. Project No.: 2230-034.

c. Date Filed: March 28, 2006.

d. Applicant: City and Borough of Sitka, Alaska.

e. Name of Project: Blue Lake Hydroelectric Project.

f. Location: On Sawmill Creek, 5 miles southeast of the City of Sitka, Alaska. The project occupies lands of the United States; specifically 1628.1 acres of the Tongass National Forest.

g. Filed Pursuant to: Federal Power Act 16 U.S.C. 791 (a)-825(r).

h. Applicant Contact: Andy Eggen, Acting Utility Director, City and Borough of Sitka, 105 Jarvis Street, Sitka, AK 99835, (907) 747-4000.

i. FERC Contact: Thomas Dean, (202) 502-6041 or thomas.dean@ferc.gov.

j. Deadline for filing comments and final recommendations, terms and conditions, and prescriptions is 60 days from the issuance of this notice; reply comments are due 105 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person that is on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filing. See 18 CFR 385.2001(a)(1)(iii) and the instructions on the Commission's Web site (http://www.ferc.gov) under the “eFiling” link.

k. This application has been accepted for filing and is now ready for environmental analysis.

l. Description of Project: The existing Blue Lake Project consists of the following : (1) A 211-foot-high, 256-foot-long concrete arch dam equipped with a 140-foot-long spillway and a release valve at the base of the dam; (2) a 1,225-acre reservoir with a normal water surface elevation of 342 feet msl; (3) a 7,110-foot-long power conduit consisting of: (a) An 11.5-foot-diameter, 1,500-foot-long penstock; (b) an 84-inch-diameter, 460-foot-long penstock; (c) a 10-inch-diameter, 4,650-foot-long lower penstock; (d) an 84-inch-diameter, 500-foot-long penstock; (e) a 20-inch-diameter water supply tap; (f) an 84-inch-diameter butterfly valve; and (g) a 24-inch conduit drain valve; (4) a powerhouse containing two 3,000 kW generating units; (5) a 150-foot-long tailrace; (6) a 5-mile-long, 69-kV transmission line; and (7) appurtenant facilities.

Two additional generating units are connected to the project power conduit as follows:

The Fish Valve Unit consists of: (1) A 36-inch-diameter wye penstock connected to the power conduit; (2) a powerhouse containing one 670 kW generating unit; (3) a 7,700-foot-long, 12.47-kV transmission line; and (4) appurtenant facilities.

The Pulp Mill Feeder Unit consists of: (1) A 36-inch-diameter tee connected to the power conduit; (2) a 36-inch-diameter, 24-foot-long penstock; (3) a powerhouse containing one 870 kW generating unit; (4) a 470-foot-long 4.16-kV transmission line; and (5) appurtenant facilities.

m. A copy of the application is available for review at the Commission in the Public Reference Room or may be viewed on the Commission's Web site at http://www.ferc.gov using the “eLibrary” link. Enter the docket number, excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit comments on this application. In determining the appropriate action to take, the Commission will consider all comments filed. Comments must be received on or before the specified deadline date.

All filings must: (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the agency or other individual submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

o. Procedural schedule: The application will be processed according to the following Hydro Licensing Schedule. Revisions to the schedule will be made as appropriate. The Commission staff proposes to issue a single environmental assessment for comment rather than issuing a draft and final EA. Comments, terms and conditions, recommendations, prescriptions, and reply comments, if any, will be addressed in the EA. Staff intend to give at least 30 days for entities to comment on the EA, and will take into consideration all comments received on the EA before final action is taken on the license application.

Notice of the availability of the EA June 2007.

Magalie R. Salas,
Secretary.

[FR Doc. E6-21386 Filed 12-14-06; 8:45 am]

BILLING CODE 6717-01-P